DEPARTMENT OF TRANSPORTATION

Federal Aviation Administration

14 CFR Part 39

[Docket No. FAA-2015-1991; Directorate Identifier 2014-NM-251-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A318-111 and -112 airplanes; Model A319-111, -112, and -115 airplanes; Model A320-214 airplanes; and Model A321-111, -112, -211, -212, and -213 airplanes. This proposed AD was prompted by reports of cracked cadmium-plated lock nuts that attach the hinge to the fan cowl door. This proposed AD would require inspecting to determine the serial number of each engine fan cowl door, inspecting for cracking of the hinge lock nuts of any affected door, and replacing the lock nuts if necessary. We are proposing this AD to detect and correct cracking of the hinge lock nuts, which could result in separation of the hinge from the fan cowl door, in-flight loss of the door, and consequent damage to the airplane.

DATES: We must receive comments on this proposed AD by August 17, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact the following:

For Airbus service information contact Airbus, Airworthiness Office—EIAS, 1 Rond Point Maurice Bellonte, 31707 Blagnac Cedex, France; telephone: +33 5 61 93 36 96; fax: +33 5 61 93 44 51; email: account.airworth-eas@airbus.com; Internet http://www.airbus.com.

For Goodrich service information contact Goodrich Aerostructures, 850 Lagoon Drive, Chula Vista, California, 91910-2098; telephone: 619-691-2719; email: jan.lewis@goodrich.com; Internet: http://www.goodrich.com/TechPubs.

You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-1991; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone: 425-227-1405; fax: 425-227-1149.

SUPPLEMENTARY INFORMATION:

Comments Invited

We invite you to send any written relevant data, views, or arguments about this proposed AD. Send your comments to an address listed under the ADDRESSES section. Include “Docket No. FAA-2015-1991; Directorate Identifier 2014-NM-251-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2014-0276, dated December 19, 2014 (referred to after this as the Mandatory Continuing Airworthiness Information, or “the MCAI”), to correct an unsafe condition for all Airbus Model A318-111 and -112 airplanes; Model A319-111, -112, and -115 airplanes; Model A320-214 airplanes; and Model A321-111, -112, -211, -212, and -213 airplanes. The MCAI states:

In-service findings have been reported of cracked cadmium plated lock nuts. This cracking occurs shortly after installation. Investigation results attribute the cause to an improper manufacturing procedure of the nuts. It was determined that the affected batch of lock nuts was used on the fan cowl to attach hinges to the cowl doors on CFM56-5B engines only.

This condition, if not corrected, could lead to separation of the hinge from the fan cowl door, possibly resulting in in-flight loss of a fan cowl door, with consequent damage to the aeroplane and/or injury to persons on the ground.

For the reasons describes above, this [EASA] AD required identification of the affected fan cowl doors, a one-time inspection of the fan cowl door hinge nuts and, depending on findings, replacement of the affected nuts.

You may examine the MCAI in the AD docket on the Internet at http://www.regulations.gov by searching for and locating Docket No. FAA-2015-1991.

Related Service Information Under 1 CFR Part 51

Airbus has issued Service Bulletin A320-71-1062, including Appendix 01, dated July 28, 2014. Goodrich Aerostructures has issued Service Bulletin RA32071-151, dated June 11, 2014. The service information describes procedures for inspection of the hinge nuts of the fan cowl door, and replacement if necessary. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 437 airplanes of U.S. registry.

We also estimate that it would take about 2 work-hours per product to comply with the basic requirements of this proposed AD. The average labor rate is $85 per work-hour. Required parts would cost about $0 per product. Based on these figures, we estimate the cost of this proposed AD on U.S. operators to be $74,290, or $170 per product.

We have received no definitive data that would enable us to provide a cost estimate for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-1991; Directorate Identifier 2014-NM-251-AD.

(a) Comments Due Date

We must receive comments by August 17, 2015.

(b) Affected ADs

None.

(c) Applicability

This AD applies to the airplanes identified in paragraphs (c)(1), (c)(2), (c)(3), and (c)(4) of this AD, certificated in any category, all manufacturer serial numbers.

(1) Airbus Model A318-111 and -112 airplanes.

(2) Airbus Model A319-111, -112, and -115 airplanes.

(3) Airbus Model A320-214 airplanes.

(4) Airbus Model A321-111, -112, -211, 212, and -213 airplanes.

(d) Subject

Air Transport Association (ATA) of America Code 71, Powerplant.

(e) Reason

This AD was prompted by reports of cracked cadmium-plated lock nuts that attach the hinge to the fan cowl door. We are issuing this AD to detect and correct cracking of the hinge lock nuts, which could result in separation of the hinge from the fan cowl door, the in-flight loss of the door, and consequent damage to the airplane.

(f) Compliance

Comply with this AD within the compliance times specified, unless already done.

(g) Inspect To Determine Serial Number

Within 24 months after the effective date of this AD: Inspect to determine if any fan cowl door has a serial number 10029001 through 11092003 inclusive, in accordance with the Accomplishment Instructions of Airbus Service Bulletin A320-71-1062, dated July 28, 2014; or Goodrich Aerostructures Service Bulletin RA32071-151, dated June 11, 2014. A review of airplane maintenance records is acceptable in lieu of the inspection required by this paragraph, provided those records can be relied upon for that purpose and the serial number can be positively identified by that review.

(h) Inspection and Replacement

For any fan cowl door having any serial number identified in paragraph (g) of this AD: Within 24 months after the effective date of this AD, do a detailed inspection for cracking of the hinge lock nuts of the door, in accordance with the Accomplishment Instructions of Airbus Service Bulletin A320-71-1062, dated July 28, 2014; or Goodrich Aerostructures Service Bulletin RA32071-151, dated June 11, 2014. If any crack is found, before further flight, replace each cracked hinge lock nut, in accordance with the Accomplishment Instructions of Airbus Service Bulletin A320-71-1062, dated July 28, 2014; or Goodrich Aerostructures Service Bulletin RA32071-151, dated June 11, 2014.

(i) Special Flight Permits

Special flight permits, as described in Section 21.197 and Section 21.199 of the Federal Aviation Regulations (14 CFR 21.197 and 21.199), are not allowed.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone: 425-227-1405; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

(1) Refer to Mandatory Continuing Airworthiness Information (MCAI) EASA Airworthiness Directive 2014-0276, dated December 19, 2014, for related information. This MCAI may be found in the AD docket on the Internet at http://www.regulations.gov by searching for and locating Docket No. FAA-2015-1991.

(2) For Airbus service information contact Airbus, Airworthiness Office—EIAS, 1 Rond Point Maurice Bellonte, 31707 Blagnac Cedex, France; telephone: +33 5 61 93 36 96; fax: +33 5 61 93 44 51; email: account.airworth-eas@airbus.com; Internet http://www.airbus.com.

(3) For Goodrich service information contact Goodrich Aerostructures, 850 Lagoon Drive, Chula Vista, California, 91910-2098; telephone: 619-691-2719; email: jan.lewis@goodrich.com; Internet: http://www.goodrich.com/TechPubs.

(4) You may view this referenced service information at the FAA, Transport Airplane Directorate, 1601 Lind Avenue SW., Renton, WA. For information on the availability of this material at the FAA, call 425-227-1221.

Issued in Renton, Washington, on June 24, 2015.
Dionne Palermo,
Acting Manager, Transport Airplane Directorate, Aircraft Certification Service.

[FR Doc. 2015-16165 Filed 7-1-15; 8:45 am]

BILLING CODE 4910-13-P